NUCLEAR REGULATORY COMMISSION

[NRC-2017-0056]

Emergency Planning For Research and Test Reactors and Other Non-Power Production and Utilization Facilities

AGENCY: Nuclear Regulatory Commission.

ACTION: Draft regulatory guide; request for comment.

SUMMARY: The U.S. Nuclear Regulatory Commission (NRC) is issuing for public comment draft regulatory guide (DG), DG-2004, “Emergency Planning for Research and Test Reactors and Other Non-Power Production and Utilization Facilities.” This DG is proposed Revision 2 of Regulatory Guide (RG) 2.6, “Emergency Planning for Research and Test Reactors.” The NRC proposes to revise the RG by updating it to approve the use of the most current version of the American National Standards Institute (ANSI)/American Nuclear Society (ANS) standard ANSI/ANS-15.16-2015, “Emergency Planning for Research Reactors.” The proposed revision provides licensees and applicants with a method that the NRC staff considers acceptable for use in complying with the regulations on the content of emergency plans for research and test reactors and other non-power production and utilization facilities.

DATES: Submit comments by April 25, 2017. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking Web site: Go to http://www.regulations.gov and search for Docket ID NRC-2017-0056. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: OWFN-12H08, U.S. Nuclear Regulatory Commission, Washington, DC 20555-0001.

For additional direction on obtaining information and submitting comments, see “Obtaining Information and Submitting Comments” in the SUPPLEMENTARY INFORMATION section of this document.

FOR FURTHER INFORMATION CONTACT: Geoffrey Wertz, Office of Nuclear Reactor Regulation, telephone: 301-415-0893, email: Geoffrey.Wertz@nrc.gov; or Mark Orr, Office of Nuclear Regulatory Research, telephone: 301-415-6003, email: Mark.Orr@nrc.gov. Both are staff members of the U.S. Nuclear Regulatory Commission, Washington, DC 20555-0001.

SUPPLEMENTARY INFORMATION:

I. Obtaining Information and Submitting Comments

A. Obtaining Information

Please refer to Docket ID NRC-2017-0056 when contacting the NRC about the availability of information regarding this action. You may obtain publically-available information related to this action, by any of the following methods:

• Federal Rulemaking Web site: Go to http://www.regulations.gov and search for Docket ID NRC-2017-0056.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The DG-2004 is available in ADAMS under Accession No. ML16035A476. The regulatory analysis for this DG is available in ADAMS under Accession No. ML16035A477.

• NRC's PDR: You may examine and purchase copies of public documents at the NRC's PDR, Room O1-F21, One White Flint North, 11555 Rockville Pike, Rockville, Maryland 20852.

B. Submitting Comments

Please include Docket ID NRC-2017-0056 in your comment submission, in order to ensure that the NRC is able to make your comment submission available to the public in this docket.

The NRC cautions you not to include identifying or contact information that you do not want to be publicly disclosed in your comment submission. The NRC posts all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The DG, entitled “Emergency Planning for Research and Test Reactors and Other Non-Power Production and Utilization Facilities,” is proposed Revision 2 of RG 2.6, “Emergency Planning for Research and Test Reactors.” The DG is temporarily identified by its task number, DG-2004. This proposed revision addresses new issues identified since the guide was last revised in March 1983. This revision endorses the latest version of the consensus standard, ANSI/ANS-15.16-2015, “Emergency Planning for Research Reactors” (Ref. 9) (ANSI/ANS-15.16 or the standard). The scope was expanded to address non-power facilities according to part 50 of title 10 of the Code of Federal Regulations (10 CFR), other than research and test reactors. Other changes to RG 2.6 include editorial changes, and the current program guidance for RGs.

Copies of ANSI/ANS-15.16-2015 may be purchased from the American Nuclear Society (ANS) Web site (http://www.new.ans.org/store/); or by writing to: American Nuclear Society, 555 North Kensington Avenue, La Grange Park, Illinois 60526, U.S.A., telephone: 1-800-323-3044. Revising this regulatory guide to adopt, in whole or in part, a consensus standard is consistent with the NRC policy of evaluating the latest versions of national consensus standards to determine their suitability for endorsement by regulatory guides. This approach also complies with the NRC's Management Directive (MD) 6.5, “NRC Participation in the Development and Use of Consensus Standards” (ADAMS Accession No. ML16193A497), and is in accordance with Public Law 104-113, “National Technology Transfer and Advancement Act of 1995.”

III. Backfitting

The regulatory positions held in this DG demonstrate the method that the NRC staff finds acceptable for an applicant or holder of a license under 10 CFR part 50 for a research and test reactor and other non-power production or utilization facility to meet the applicable emergency preparedness requirements.

The issuance of the guidance in this DG would not constitute “backfitting,” as that term is defined in 10 CFR 50.109, “Backfitting,” because non-power production and utilization facility licensees are not included within the scope of entities protected by 10 CFR 50.109.

Dated at Rockville, Maryland, this 17th day of February, 2017.
For the Nuclear Regulatory Commission.
Thomas H. Boyce,
Chief, Regulatory Guidance and Generic Issues Branch, Division of Engineering, Office of Nuclear Regulatory Research.

[FR Doc. 2017-03601 Filed 2-23-17; 8:45 am]

BILLING CODE 7590-01-P